DEPARTMENT OF ENERGY

Federal Energy Regulatory Commission

[Project No. 2242-078—Oregon]

Eugene Water and Electric Board; Notice of Designation of Certain Commission Personnel as Non-Decisional

June 22, 2007.

Commission staff member James Hastreiter (Office of Energy Projects 503-552-2760; james.hastreiter@ferc.gov) is assigned to help resolve environmental and other issues associated with development of a settlement agreement for the Carmen-Smith Project.

As “non-decisional” staff, Mr. Hastreiter will not participate in an advisory capacity in the Commission's review of any offer of settlement or settlement agreement, or deliberations concerning the disposition of the relicense application.

Different Commission “advisory staff” will be assigned to review any offer of settlement or settlement agreement, and to process the relicense application, including providing advice to the Commission with respect to the agreement and the application. Non-decisional staff and advisory staff are prohibited from communicating with one another concerning the settlement and the relicense application.

Kimberly D. Bose,
Secretary.

[FR Doc. E7-12617 Filed 6-28-07; 8:45 am]

BILLING CODE 6717-01-P